SECURITIES AND EXCHANGE COMMISSION

[File No. 500-1]

Order of Suspension of Trading; In the Matter of Diversified Investors Corp. (n/k/a Diverse Holdings Corp.), Drew Resources (n/k/a Galloway Energy, Inc.), DTI Medical Corp., DTLL, Inc. (n/k/a Solstice Resorts, Inc.), and Dunn's Supply Store, Inc.

May 10, 2011.

It appears to the Securities and Exchange Commission that there is a lack of current and accurate information concerning the securities of Diversified Investors Corp. (n/k/a Diverse Holdings Corp.) because it has not filed any periodic reports since the period ended August 31, 2000.

It appears to the Securities and Exchange Commission that there is a lack of current and accurate information concerning the securities of Drew Resources (n/k/a Galloway Energy, Inc.) because it has not filed any periodic reports since the period ended March 31, 2001.

It appears to the Securities and Exchange Commission that there is a lack of current and accurate information concerning the securities of DTI Medical Corp. because it has not filed any periodic reports since the period ended September 30, 1997.

It appears to the Securities and Exchange Commission that there is a lack of current and accurate information concerning the securities DTLL, Inc. (n/k/a Solstice Resorts, Inc. because it has not filed any periodic reports since the period ended September 30, 2007.

It appears to the Securities and Exchange Commission that there is a lack of current and accurate information concerning the securities of Dunn's Supply Store, Inc. because it has not filed any periodic reports since it filed a registration statement on May 31, 1996.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on May 10, 2011, through 11:59 p.m. EDT on May 23, 2011.

By the Commission.
Jill M. Peterson,
Assistant Secretary.

[FR Doc. 2011-11760 Filed 5-10-11; 11:15 am]

BILLING CODE 8011-01-P